OFFICE OF THE UNITED STATES TRADE REPRESENTATIVE

Notice of Change to U.S. Note 2(d) to Subchapter XIX of Chapter 98 of the Harmonized Tariff Schedule of the United States

AGENCY: Office of the United States Trade Representative.

ACTION: Notice.

SUMMARY: Section 2004(k) of the Miscellaneous Trade and Technical Corrections Act of 2004, Public Law 108-429, designated Mauritius as eligible for certain additional benefits under the African Growth and Opportunity Act (AGOA) for one year, beginning October 1, 2004. This notice modifies the Harmonized Tariff Schedule of the United States (HTS) to reflect this designation.

DATES: Effective February 9, 2005.

FOR FURTHER INFORMATION CONTACT: Patrick Coleman, Director for African Affairs, Office of the United States Trade Representative, (202) 395-9514.

SUPPLEMENTARY INFORMATION: The AGOA (Title I of the Trade and Development Act of 2000, Pub. L. 106-200) provides preferential tariff treatment for imports of certain textile and apparel products of beneficiary sub-Saharan African countries. On December 3, 2004, the President signed the Miscellaneous Trade and Technical Corrections Act (“the Act”), which designates Mauritius as eligible for benefits under section 112(b)(3)(B) of the AGOA for one year, beginning October 1, 2004.

In Proclamation 6969 (62 FR 4413), the President delegated to the United States Trade Representative (USTR) the authority to make rectifications, technical or conforming changes, or similar modifications to the HTS. Pursuant to the authority delegated to the USTR in Proclamation 6969, U.S. Note 2(d) to subchapter XIX of chapter 98 of the HTS is modified by inserting “Mauritius” in alphabetical sequence in the list of countries effective for the period ending on midnight September 30, 2005, at which time “Mauritius” shall be deleted from the list. Importers claiming preferential tariff treatment under the AGOA for entries of textile and apparel articles should ensure that those entries meet the applicable visa requirements. Importers seeking retroactive duty treatment pursuant to section 2004(k)(2) of the Act should direct their inquiries to the Bureau of Customs and Border Protection.

Robert B. Zoellick,
United States Trade Representative.

[FR Doc. 05-3473 Filed 2-23-05; 8:45 am]

BILLING CODE 3190-W5-P